Title 3—

The President

Executive Order 13288 of March 6, 2003

Blocking Property of Persons Undermining Democratic

Processes or Institutions in Zimbabwe

By the authority vested in me as President by the Constitution and the laws of the United States of America, including the International Emergency Economic Powers Act (50 U.S.C. 1701 et seq.) (IEEPA), the National Emergencies Act (50 U.S.C. 1601 et seq.), and section 301 of title 3, United States Code,

I, GEORGE W. BUSH, President of the United States of America, have determined that the actions and policies of certain members of the Government of Zimbabwe and other persons to undermine Zimbabwe's democratic processes or institutions, contributing to the deliberate breakdown in the rule of law in Zimbabwe, to politically motivated violence and intimidation in that country, and to political and economic instability in the southern African region, constitute an unusual and extraordinary threat to the foreign policy of the United States, and I hereby declare a national emergency to deal with that threat.

I hereby order:

Section 1. Except to the extent provided in section 203(b) of IEEPA (50 U.S.C. 1702(b)), and in regulations, orders, directives, or licenses that may be issued pursuant to this order, and notwithstanding any contract entered into or any license or permit granted prior to the effective date of this order, all property and interests in property of the following persons that are in the United States, that hereafter come within the United States, or that are or hereafter come within the possession or control of United States persons, including their overseas branches, are blocked and may not be transferred, paid, exported, withdrawn, or otherwise dealt in:

(a) the persons listed in the Annex to this order; and

(b) any person determined by the Secretary of the Treasury, in consultation with the Secretary of State, to be owned or controlled by, or acting or purporting to act directly or indirectly for or on behalf of, any of the persons listed in the Annex to this order.

Sec. 2. (a) Any transaction or dealing by a United States person or within the United States in property or interests in property blocked pursuant to this order is prohibited, including but not limited to the making or receiving of any contribution of funds, goods, or services to or for the benefit of any person listed in the Annex to this order or who is the subject of a determination under subsection 1(b) of this order.

(b) Any transaction by a United States person or within the United States that evades or avoids, has the purpose of evading or avoiding, or attempts to violate any of the prohibitions set forth in this order is prohibited.

(c) Any conspiracy formed to violate the prohibitions set forth in this order is prohibited.

Sec. 3. For the purposes of this order:

(a) The term “person” means an individual or entity;

(b) The term “entity” means a partnership, association, trust, joint venture, corporation, group, subgroup, or other organization; and

(c) The term “United States person” means any United States citizen, permanent resident alien, entity organized under the laws of the United States or any jurisdiction within the United States (including foreign branches), or any person in the United States.

Sec. 4. The Secretary of the Treasury, in consultation with the Secretary of State, is hereby authorized to take such actions, including the promulgation of rules and regulations, and to employ all powers granted to me by IEEPA, as may be necessary to carry out the purposes of this order. The Secretary of the Treasury may redelegate any of these functions to other officers and agencies of the United States Government. All agencies of the United States Government are hereby directed to take all appropriate measures within their authority to carry out the provisions of this order.

Sec. 5. This order is not intended to create, nor does it create, any right, benefit, or privilege, substantive or procedural, enforceable at law by a party against the United States, its agencies, officers, employees, or any other person.

Sec. 6. (a) This order is effective at 12:01 eastern standard time on March 7, 2003; and

(b) This order shall be transmitted to the Congress and published in the Federal Register.

B

THE WHITE HOUSE,

March 6, 2003.

Billing code 3195-01-P

ANNEX

1. Robert Gabriel MUGABE [President of Zimbabwe, born 21 Feb. 1924]

2. Flora BUKA [Minister of State for Land Reform, born 25 Feb. 1968]

3. George CHARAMBA [Permanent Secretary, Ministry of Information, born 4 Apr. 1963]

4. Fortune CHARUMBIRA [Deputy Minister for Local Government, Public Works, and National Housing, born 10 June 1962]

5. Aeneas CHIGWEDERE [Minister of Education, Sports and Culture, born 25 Nov. 1939]

6. Augustine CHIHURI [Police Commissioner, born 10 Mar. 1953]

7. Enos CHIKOWORE [Politburo Secretary for Land and Resettlement, born 17 July 1942]

8. Patrick CHINAMASA [Minister of Justice, born 25 Jan. 1947]

9. Edward CHINDORI-CHININGA [Minister of Mines, born 14 Mar. 1955]

10. Constantine CHIWENGA [Lt. Gen., Commander of the Army, born 25 Aug. 1956]

11. Willard CHIWEWE [Senior Secretary, Ministry of Foreign Affairs, born 19 Mar. 1949]

12. Ignatius CHOMBO [Minister of Local Government, born 1 Aug. 1952]

13. Dumiso DABENGWA [Politburo Senior Committee Member, born 6 Dec. 1939]

14. Nicholas GOCHE [Minister of State for National Security, born 1 Aug. 1946]

15. Rugare GUMBO [Deputy Minister for Home Affairs, born 8 Mar. 1940]

16. Richard HOVE [Politburo Secretary for Economic Affairs, born 23 Sept. 1939]

17. David KARIMANZIRA [Politburo Secretary for Finance, born 25 May 1947]

18. Saviour KASUKUWERE [Deputy-Secretary for Youth Affairs, born 23 Oct. 1970]

19. Christopher KURUNERI [Deputy Minister, Finance and Economic Development, born 4 Apr. 1949]

20. Thenjiwe LESABE [Politburo Secretary for Women's Affairs, born 5 Jan. 1933]

21. Jaison MACHAYA [Deputy Minister for Mines and Mining Development, born 13 June 1952]

22. Joseph MADE [Minister of Agriculture, born 21 Nov. 1954]

23. Edna MADZONGWE [Deputy-Secretary for Production and Labor, born 11 July 1943]

24. Shuvai MAHOFA [Deputy Minister for Youth Development, Gender and Employment Creation, born 4 Apr. 1941]

25. Joshua MALINGA [Deputy-Secretary for Disabled and Disadvantaged, born 28 Apr. 1944]

26. Paul MANGWANA [Minister of State for State Enterprises and Parastatals, born 10 Aug. 1961]

27. Witness MANGWENDE [Minister of Transport and Communications, born 15 Aug. 1946]

28. Elliot MANYIKA [Minister of Youth Development, born 30 July 1955]

29. Kenneth MANYONDA [Deputy Minister for Industry and International Trade, born 10 Aug. 1934]

30. Reuben MARUMAHOKO [Deputy Minister for Energy and Power Development, born 4 Apr. 1948]

31. Angeline MASUKU [Politburo Secretary for Disabled and Disadvantaged Person's Welfare, born 14 Oct. 1936]

32. Sithokozile MATHUTHU [Deputy-Secretary for Transport and Social Welfare]

33. Amos Bernard Muvenga MIDZI [Minister for Energy and Development, born 4 July 1952]

34. Emmerson MNANGAGWA [Parliamentary Speaker, born 15 Sept. 1946]

35. Kembo MOHADI [Minister of Home Affairs, born 15 Nov. 1949]

36. Swithun MOMBESHORA [Minister of Higher Education, born 20 Aug. 1945]

37. Jonathan MOYO [Minister of Information, born 12 Jan. 1957]

38. July MOYO [Minister of Public Service, Labor and Social Welfare, born 7 May 1950]

39. Simon Khaya MOYO [Deputy-Secretary for Legal Affairs, born 1945]

40. Obert MPOFU [Deputy-Secretary for National Security, born 12 Oct. 1951]

41. Joseph MSIKA [Vice President, born 6 Dec. 1923]

42. Olivia MUCHENA [Minister of State for Science and Technology Development, born 18 Aug. 1946]

43. Opah MUCHINGURI [Politburo Secretary for Gender and Culture, born 14 Dec. 1958]

44. Stan MUDENGE [Minister of Foreign Affairs, born 17 Dec. 1948]

45. Grace MUGABE [born 23 July 1965]

46. Sabina MUGABE [Politburo Senior Committee Member, born 14 Oct. 1934]

47. Joyce MUJURU [Minister of Rural Resources and Water, born 15 Apr. 1955]

48. Solomon MUJURU [Politburo Senior Committee Member, born 1 May 1949]

49. Samuel MUMBENGEGWI [Minister of Industry and International Trade, born 20 July 1945]

50. Herbert MURERWA [Minister of Finance, born 31 July 1941]

51. Christopher MUSHOHWE [Deputy Minister, Transport and Communications, born 6 Feb. 1954]

52. Didymus MUTASA [Politburo Secretary for External Relations, born 27 July 1935]

53. Kenneth MUTIWEKUZIVA [Deputy Minister for Small and Medium Enterprise Development, born 27 May 1948]

54. Simon Vengesai MUZENDA [Vice President, born 28 Oct. 1922]

55. Tsitsi MUZENDA [Politburo Senior Committee Member, born 28 Aug. 1922]

56. Elisha MUZONZINI [Director of the Central Intelligence Organization, born 24 June 1957]

57. Abedinico NCUBE [Deputy Minister, Foreign Affairs, born 13 March 1954]

58. Naison NDLOVU [Politburo Secretary for Production and Labor, born 22 Oct. 1930]

59. Sikhanyiso NDLOVU [Deputy-Secretary for Commissariat, born 20 Sept. 1949]

60. Francis NHEMA [Minister of Environment and Tourism, born 17 Apr. 1959]

61. John NKOMO [Minister of State for Special Affairs, born 22 Aug. 1934]

62. Stephen NKOMO [Politburo Senior Committee Member, born 3 Oct. 1926]

63. Sithembiso NYONI [Minister of Small and Medium Enterprises Development, born 20 Sept. 1949]

64. David PARIRENYATWA [Minister of Health and Child Welfare, born 2 Aug. 1950]

65. Selina POTE [Deputy-Secretary for Gender and Culture]

66. Tinos RUSERE [Deputy Minister for Rural Resources and Water Development, born 10 May 1945]

67. Stanley SAKUPWANYA [Deputy-Secretary for Health and Child Welfare]

68. Sidney SEKERAMAYI [Minister of Defense, born 30 Mar. 1944]

69. Nathan SHAMUYARIRA [Politburo Secretary for Information and Publicity, born 29 Sept. 1928]

70. Perence SHIRI [Air Marshal (Air Force), born 11 Jan. 1955]

71. Isaiah SHUMBA [Deputy Minister, Education, Sports and Culture, born 3 Jan. 1949]

72. Absolom SIKOSANA [Politburo Secretary for Youth Affairs]

73. Solomon TAWENGWA [Deputy-Secretary for Finance, born 15 June 1940]

74. Josiah TUNGAMIRAI [Politburo Secretary for Empowerment and Indigenization, born 8 Oct. 1948]

75. Charles UTETE [Cabinet Secretary, born 30 Oct. 1938]

76. Paradzai ZIMONDI [Prisons chief, born 4 Mar. 1947]

77. Vitalis ZVINAVASHE [General, Commander of Zimbabwe Defense Forces, born 27 Sept. 1943]

Note: The bracketed identifying information with respect to each person listed in this Annex reflects information currently available and is provided solely to facilitate compliance with this order. Each individual listed in this Annex remains subject to the prohibitions of this order notwithstanding any change in title, position, or affiliation.

[FR Doc. 03-5848

Filed 3-7-03; 8:45 am]

Billing code 3195-01-P